DEPARTMENT OF THE TREASURY

Internal Revenue Service

26 CFR Part 1

[TD 9979]

RIN 1545-BQ81

Additional Guidance on Low-Income Communities Bonus Credit Program

Correction

In Rule Document 2023-17078, appearing on pages 55506 to 55548 in the issue of Tuesday, August 15, 2023, make the following correction:

PART 1 [Corrected]

On page 55540, in the second column, beginning on line 40, the Authority citation is corrected to read as forth below:

Authority: 26 U.S.C. 7805 unless otherwise noted.

* * * * *

Section 1.48(e)-1 issued under 26 U.S.C. 48

* * * * *

[FR Doc. C2-2023-17078 Filed 10-19-23; 8:45 am]

BILLING CODE 0099-10-P